NUCLEAR REGULATORY COMMISSION

Proposed Plan to Perform Fire Testing of Hemyc (1-Hour) and MT (3-Hour) Fire Protection Wrap; Meeting

AGENCY: Nuclear Regulatory Commission.

ACTION: Notice of meeting.

SUMMARY: The NRC staff will hold a public meeting to present an overview of the draft plant-specific proposed plan to perform fire testing of Hemyc (1-hour) and MT (3-hour) fire protection wrap and to accept public comments on the document.

DATES: October 31, 2002, 10 a.m. to 12 p.m.

ADDRESSES: One White Flint North, Room O-10 B4, 11555 Rockville Pike, Rockville, Maryland 20852.

FOR FURTHER INFORMATION CONTACT: Mr. R. Subbaratnam, Project Directorate II, Section 2, Division of Licensing Project Management, Office of Nuclear Reactor Regulation, U.S. Nuclear Regulatory Commission, Washington, DC 20555, Telephone 1-800-368-5642, extension 1478, or eMail at RXS@nrc.gov; or Mr. D. Frumkin, Fire Protection and Special Projects Section, Plant Systems Branch, Division of Systems Safety and Analysis, Office of Nuclear Reactor Regulation, U.S. Nuclear Regulatory Commission, Washington, DC 20555, Telephone 1-800-368-5642, extension 2280, or e-mail at DXF1@nrc.gov.

SUPPLEMENTARY INFORMATION: As a result of fire protection inspections, unresolved items (URIs) were opened at some nuclear power stations due to questions raised regarding the fire rating of two fire barrier materials (Shearon Harris (ADAMS ML003685341), and McGuire (ML003778709)). The URIs involve the fire rating of Hemyc and MT fire barrier materials produced by Promatec, Inc. A recent staff review of the original fire tests for these materials shows that the original test results may not be consistent with the staff's safety evaluation report. The NRC has chosen to perform fire tests of these materials to determine their actual fire rating when applied to meet the requirements of Title 10 of the Code of Federal Regulations (10 CFR) part 50, appendix R, “Fire Protection Program for Nuclear Facilities Operating Prior to January 1, 1979,” section III.G, as required by 10 CFR 50.48, “Fire Protection.”

The purpose of this meeting is to gather stakeholder input into the proposed testing plan to help assure that the testing plan as proposed includes a representative sample of configurations. The meeting may also gather other information, such as comments on scope of testing and testing methods, and serve as a vehicle for members of the public to express concerns and provide advice.

The proposed testing plan is available electronically for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov/reading-rm.html (the Public Electronic Reading Room). The ADAMS accession number for the test plan is ML022280394. If you do not have access to ADAMS or if there are problems in accessing the documents located in ADAMS, contact the NRC PDR Reference staff at 1-800-397-4209 or 301-415-4737, or by e-mail at pdr@nrc.gov.

Any interested party may submit comments on the draft test plan. Comments may be delivered to Room 6 D22, Two White Flint North, at 11545 Rockville Pike, Rockville, Maryland, from 7:30 a.m. to 4:15 p.m. Federal workdays. Electronic comments may be submitted to the NRC by e-mail to RXS2@nrc.gov for consideration by the NRC staff. To be certain of consideration, comments on the proposed testing plan must be received by November 7, 2002. Comments received after the due date will be considered if it is practical to do so, but the NRC staff is able to assure consideration only for comments received on or before this date. Written comments on the testing plan should be addressed to: R. Subbaratnam, Project Directorate II, Section 2, Division of Licensing Project Management, U.S. Nuclear Regulatory Commission, Washington, DC 20555-0001.

All comments received by the Commission, including those made by Federal, State, and local agencies, Indian tribes, or other interested persons, will be made available electronically at the Commission's PDR in Rockville, Maryland and from the PARS component of ADAMS.

The NRC staff will host an informal discussion 1 hour prior to the start of the session. No comments on the proposed testing plan will be accepted during the informal discussions. To be considered, comments must be provided in writing as discussed above. Persons may pre-register to attend or present oral comments at the meeting by contacting Mr. R. Subbaratnam by telephone at 1-800-368-5642, extension 1478, or by e-mail at RXS2@nrc.gov no later than October 17, 2002. Members of the public may also register to provide oral comments within 15 minutes of the start of the session. Individual oral comments may be limited by the time available, depending on the number of persons who register. If special equipment or accommodations are needed to attend or present information at the public meeting, the need should be brought to Mr. R. Subbaratnam's attention no later than October 17, 2002, to provide the NRC staff adequate notice to determine whether the request can be accommodated.

Dated at Rockville, Maryland, this 30th day of September, 2002.
For the Nuclear Regulatory Commission.
John N. Hannon,
Chief, Plant Systems Branch, Division of Systems Safety and Analysis, Office of Nuclear Reactor Regulation.

[FR Doc. 02-25246 Filed 10-3-02; 8:45 am]

BILLING CODE 7590-01-P